NATIONAL SCIENCE FOUNDATION

Advisory Panel for Social and Political Sciences; Notice of Meeting

In accordance with the Federal Advisory Committee Act (Pub. L. 92-463, and amended), the National Science Foundation announces the following meeting:

Name: Advisory Panel for Social and Political Sciences (#1761).

Date/Time: March 23, 2001; 8 a.m. to 6 pm.

Place: National Science Foundation, 4201 Wilson Boulevard, Room 970; Arlington, VA.

Contact Person: Dr. Frank Scioli and Dr. James Granato, Program Directors for Political Science, National Science Foundation. Telephone: (703) 292-8762.

Agenda: To review and evaluate the political science proposals as part of the selection process for awards.

Type of Meeting: Closed.

Purpose of Meeting: To provide advice and recommendations concerning support for research proposals submitted to the NSF for financial support.

Reason For Closing: The proposals being reviewed include information of a proprietary or confidential nature, including technical information; financial data, such as salaries; and personal information concerning individuals associated with the proposals. These maters are exempt under 5 U.S.C. 552b(c)(4) and (6) of the Government in the Sunshine Act.

Dated: March 1, 2001.
Susanne Bolton,
Committee Management Officer.

[FR Doc. 01-5466 Filed 3-6-01; 8:45 am]

BILLING CODE 7555-01-M